DEPARTMENT OF HOMELAND SECURITY

Federal Emergency Management Agency

44 CFR Part 65

[Docket ID FEMA-2010-0003; Internal Agency Docket No. FEMA-B-1129]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arizona:
Pima | Town of Marana (09-09-0233P) | April 29, 2010; May 6, 2010; The Daily Territorial | The Honorable Ed Honea, Mayor, Town of Marana, 11555 West Civic Center Drive, Marana, AZ 85653 | September 3, 2010 | 040118
Pima | Unincorporated areas of Pima County (09-09-0233P) | April 29, 2010; May 6, 2010; The Daily Territorial | The Honorable Richard Elias, Chairman, Pima County Board of Supervisors, 130 West Congress, 11th Floor, Tucson, AZ 85701 | September 3, 2010 | 040073
Pima | Unincorporated areas of Pima County (09-09-2406P) | May 7, 2010; May 14, 2010; The Daily Territorial | The Honorable Richard Elias, Chairman, Pima County Board of Supervisors, 130 West Congress, 11th Floor, Tucson, AZ 85701 | September 13, 2010 | 040073
California: Amador | City of Ione (09-09-0177P) | May 7, 2010; May 14, 2010; Amador Leader-Dispatch | The Honorable Skip Schaufel, Mayor, City of Ione, 1 East Main Street, Ione, CA 95640 | September 13, 2010 | 060016
Colorado: Adams and Jefferson | City of Westminster (10-08-0363P) | May 6, 2010; May 13, 2010; Westminster Window | The Honorable Nancy McNally, Mayor, City of Westminster, 4800 West 92nd Avenue, Westminster, CO 80031 | September 10, 2010 | 080008
Connecticut: Hartford | Town of Windsor Locks (09-01-0574P) | November 13, 2009; November 20, 2009; Hartford Courant | The Honorable Steven N. Wawruck, Jr., First Selectman, Town of Windsor Locks, 50 Church Street, Windsor Locks, CT 06096 | November 4, 2009 | 090042
Florida:
Lake | Unincorporated areas of Lake County (09-04-7272P) | May 6, 2010; May 13, 2010; Daily Commercial | The Honorable Jennifer Hill, Commissioner, District 1, P.O. Box 7800, Tavares, FL 32778 | September 10, 2010 | 120421
Monroe | Unincorporated areas of Monroe County (10-04-1955P) | April 30, 2010; May 7, 2010; Key West Citizen | The Honorable Mario Digennaro, Commissioner, District 4, 9400 Overseas Highway, Suite 210, Marathon, FL 33050 | April 28, 2010 | 125129
Monroe | Unincorporated areas of Monroe County (10-04-2350P) | April 30, 2010; May 7, 2010; Key West Citizen | The Honorable Mario Digennaro, Commissioner, District 4, 9400 Overseas Highway, Suite 210, Marathon, FL 33050 | April 26, 2010 | 125129
St. Johns | Unincorporated areas of St. Johns County (09-04-2501P) | April 26, 2010; May 3, 2010; St. Augustine Record | Mr. Michael Wanchick, St. Johns County Administrator, 500 San Sebastian View, St. Augustine, FL 32084 | August 31, 2010 | 125147
Volusia | City of DeLand (09-04-0784P) | November 9, 2009; November 16, 2009; The Beacon | The Honorable Robert F. Apgar, Mayor, City of DeLand, 120 South Florida Avenue, DeLand, FL 32720 | March 16, 2010 | 120307
Volusia | Unincorporated areas of Volusia County (09-04-0784P) | November 9, 2009; November 16, 2009; The Beacon | The Honorable Frank Bruno, Chair, Volusia County Council, 123 West Indiana Avenue, DeLand, FL 32720 | March 16, 2010 | 125155
Georgia: Gwinnett | City of Buford (09-04-5712P) | March 11, 2010; March 18, 2010; Gwinnett Daily Post | The Honorable Phillip Beard, Chairman, City of Buford Board of Commissioners, 2300 Buford Highway, Buford, GA 30518 | March 29, 2010 | 130323
Massachusetts:
Barnstable | Town of Falmouth (09-01-1270P) | November 6, 2009; November 13, 2009; The Enterprise | Mr. Robert L. Whritenour, Jr., Manager, Town of Falmouth, 59 Town Hall Square, Falmouth, MA 02540 | October 30, 2009 | 255211
Barnstable | Town of Falmouth (10-01-0479P) | January 8, 2010; January 15, 2010; The Enterprise | Mr. Robert L. Whritenour, Jr., Manager, Town of Falmouth, 59 Town Hall Square, Falmouth, MA 02540 | December 31, 2009 | 255211
Missouri:
St. Louis | City of Chesterfield (09-07-1764P) | May 3, 2010; May 10, 2010; The Countian | The Honorable John Nations, Mayor, City of Chesterfield, 690 Chesterfield Parkway West, Chesterfield, MO 63017 | September 7, 2010 | 290896
St. Louis | City of Clarkson Valley (09-07-1764P) | May 3, 2010; May 10, 2010; The Countian | The Honorable Scott Douglass, Mayor, City of Clarkson Valley, P.O. Box 987, Chesterfield, MO 63006 | September 7, 2010 | 290340
St. Louis | City of Wildwood (09-07-1764P) | May 3, 2010; May 10, 2010; The Countian | The Honorable Tim Woerther, Mayor, City of Wildwood, 183 Plaza Drive, Wildwood, MO 63040 | September 7, 2010 | 290922
Nevada: Douglas | Unincorporated areas of Douglas County (09-09-2705P) | April 30, 2010; May 7, 2010; The Record-Courier | The Honorable Michael A. Olson, Chairman, Douglas County Board of Commissioners, 3605 Silverado Drive, Carson City, NV 89705 | September 7, 2010 | 320008
Ohio:
Warren | City of Mason (08-05-5005P) | March 11, 2010; March 18, 2010; The Western Star | The Honorable Charlene Pelfrey, Mayor, City of Mason, 6000 Mason-Montgomery Road, Mason, OH 45040 | July 16, 2010 | 390559
Warren | Unincorporated areas of Warren County (08-05-5005P) | March 11, 2010; March 18, 2010; The Western Star | The Honorable David G. Young, President, Warren County Board of Commissioners, 406 Justice Drive, 1st Floor, Lebanon, OH 45036 | July 16, 2010 | 390757
Oklahoma: Oklahoma | City of Del City (09-06-1014P) | May 6, 2010; May 13, 2010; The Oklahoman | The Honorable Brian Linley, Mayor, City of Del City, P.O. Box 15177, Del City, OK 73155 | September 10, 2010 | 400233
Texas:
Tarrant | City of Benbrook (09-06-1461P) | February 9, 2010; February 16, 2010; Star-Telegram | The Honorable Jerry Dittrich, Mayor, City of Benbrook, P.O. Box 26569, Benbrook, TX 76126 | June 16, 2010 | 480586
Tarrant | City of Benbrook (09-06-3139P) | April 9, 2010; April 16, 2010; Star-Telegram | Mr. Andy Wayman, City Manager, City of Benbrook, 911 Winscott Road, Benbrook, TX 76126 | April 1, 2010 | 480586
Tarrant | City of Blue Mound (09-06-1669P) | January 29, 2010; February 5, 2010; Star-Telegram | The Honorable Alan Hooks, Mayor, City of Blue Mound, 301 South Blue Mound Road, Blue Mound, TX 76131 | June 7, 2010 | 480587
Tarrant | City of Colleyville (09-06-2624P) | November 18, 2009; November 25, 2009; Colleyville Courier | The Honorable David Kelly, Mayor, City of Colleyville, 100 Main Street, Colleyville, TX 76034 | November 5, 2009 | 480590
Tarrant | City of Fort Worth (09-06-1461P) | February 9, 2010; February 16, 2010; Star-Telegram | The Honorable Michael J. Moncrief, Mayor, City of Fort Worth, 1000 Throckmorton Street, Fort Worth, TX 76102 | June 16, 2010 | 480596
Tarrant | City of Fort Worth (09-06-1669P) | January 29, 2010; February 5, 2010; Star-Telegram | The Honorable Michael J. Moncrief, Mayor, City of Fort Worth, 1000 Throckmorton Street, Fort Worth, TX 76102 | June 7, 2010 | 480596
Tarrant | City of Grapevine (09-06-2624P) | November 18, 2009; November 25, 2009; Grapevine Courier | The Honorable William D. Tate, Mayor, City of Grapevine, P.O. Box 95104, Grapevine, TX 76099 | November 5, 2009 | 480598
Tarrant | City of Keller (10-06-0163P) | April 9, 2010; April 16, 2010; Star-Telegram | The Honorable Pat McGrail, Mayor, City of Keller, P.O. Box 770, Keller, TX 76244 | May 1, 2010 | 480602

(Catalog of Federal Domestic Assistance No. 97.022, “Flood Insurance.”)

Dated: June 11, 2010.
Sandra K. Knight,
Deputy Federal Insurance and Mitigation Administrator, Mitigation, Department of Homeland Security, Federal Emergency Management Agency.

[FR Doc. 2010-15229 Filed 6-22-10; 8:45 am]

BILLING CODE 9110-12-P